DEPARTMENT OF ENERGY

Federal Energy Regulatory Commission

[Docket No. CP08-81-000]

Natural Gas Pipeline Company of America; Notice of Request Under Blanket Authorization

March 4, 2008.

Take notice that on February 27, 2008, Natural Gas Pipeline Company of America (Natural), 747 East 22nd Street, Lombard, Illinois, filed in Docket No. CP08-81-000 a prior notice request pursuant to sections 157.205, 157.208 and 157.213 of the Commission's regulations under the Natural Gas Act (NGA) and Natural's blanket certificate issued in Docket No. CP82-402-000 for authorization convert 800 MMcf of cushion gas to working gas at Natural's North Lansing storage field in Harrison County, Texas, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Any questions concerning this application may be directed to Russell Frame, Engineer, Gas Storage, Natural Gas Pipeline Company of America, 747 East 22nd Street, Lombard, Illinois 60148, or telephone (630) 691-3827.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-4736 Filed 3-10-08; 8:45 am]

BILLING CODE 6717-01-P